DEPARTMENT OF JUSTICE

Antitrust Division

Notice Pursuant to the National Cooperative Research and Production Act of 1993—NSF International

Notice is hereby given that, on September 8, 2004, pursuant to Section 6(a) of the National Cooperative Research and Production Act of 1993, 15 U.S.C. 4301 et seq. (“the Act”), NSF International (“NSF”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: NSF International, Ann Arbor, MI. The nature and scope of NSF's standards development activities are: public health safety and environmental standards including, but not limited to: food additives and contaminants (chemical and microbiological), commercial and household food service equipment (powered, preparation, storage, and service products), food processing equipment; water quality and treatment, drinking water additives, drinking water treatment systems, commercial bottled water, home treatment devices, beverage treatment technologies; plumbing products, plastic pipe; recreational water standards, swimming pool, spa, and hot tubs and related equipment; waste water treatment systems (small, commercial, and home treatment systems and technologies), biosolids quality and treatment, waste water additives; air quality, product emissions and filtration equipment; and related management system standards.

Additional information concerning NSF may be obtained from Jane Wilson, Manager, Standards, NSF International at (734) 827-6835.

Dorothy B. Fountain,
Deputy Director of Operations, Antitrust Division.

[FR Doc. 04-23508 Filed 10-20-04; 8:45 am]

BILLING CODE 4410-11-M